DEPARTMENT OF JUSTICE

Drug Enforcement Administration

[Docket No. DEA-392]

Importer of Controlled Substances Registration

ACTION: Notice of registration.

SUMMARY: The registrants listed below have applied for and been granted registration by the Drug Enforcement Administration (DEA) as importers of schedule I and II controlled substances.

SUPPLEMENTARY INFORMATION: The companies listed below applied to be registered as an importers of various basic classes of schedule I and II controlled substances. Information on previously published notices is listed in the table below. No comments or objections were submitted and no requests for a hearing were submitted for these notices.

Companies | FR docket | Published
United States Pharmacopeial Convention | 84 FR 23582 | May 22, 2019.
Bellwyck Clinical Services | 84 FR 31622 | July 2, 2019.

The DEA has considered the factors in 21 U.S.C. 823, 952(a) and 958(a) and determined that the registration of the listed registrants to import the applicable various basic classes of schedule I and II controlled substances is consistent with the public interest and with United States obligations under international treaties, conventions, or protocols in effect on May 1, 1971. The DEA investigated each of the company's maintenance of effective controls against diversion by inspecting and testing each company's physical security systems, verifying each company's compliance with state and local laws, and reviewing each company's background and history.

Therefore, pursuant to 21 U.S.C. 952(a) and 958(a), and in accordance with 21 CFR 1301.34, the DEA has granted a registration as an importer for schedule I and II controlled substances to the above listed companies.

Dated: August 16, 2019.
Neil D. Doherty,
Acting Assistant Administrator.

[FR Doc. 2019-18685 Filed 8-28-19; 8:45 am]

BILLING CODE 4410-09-P